INTERNATIONAL TRADE COMMISSION

[Inv. No. 337-TA-459]

In the Matter of Certain Garage Door Operators Including Components Thereof; Notice of Commission Decision Not To Review an Initial Determination Granting Complainant's Motion To Add a Respondent

AGENCY: International Trade Commission.

ACTION: Notice.

SUMMARY: Notice is hereby given that the U.S. International Trade Commission has determined not to review an initial determination (“ID”) issued by the presiding administrative law judge (ALJ) in the above-captioned investigation granting a motion to add Martec Access Products, Inc. as a respondent.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on July 16, 2001, based on a complaint filed by The Chamberlain Group, Inc. against six entities: Linear Corporation, Napoleon Spring Works, Inc., Lynx Industries, Inc., Innovative Home Products, Inc., Wayne-Dalton Corporation, and Guardian Access Corporation. 66 FR 37704 (2001). Computime Limited was later added as a respondent. The complaint alleges violations of section 337 of the Tariff Act of 1930 in the importation into the United States, the sale for importation, and/or the sale within the United States after importation of certain garage door operators by reason of infringement of certain claims of complainant's U.S. Letters Patents Nos. Re. 35,364 and Re. 36,703.

On September 21, 2001, complainant filed a motion for leave to amend the complaint and notice of investigation to add Martec Access Products, Inc. as a respondent. On October 2, 2001, the Commission investigative attorney filed a response in support of complainant's motion to amend. On October 15, 2001, respondent Wayne-Dalton Corporation (“Wayne-Dalton”) filed a motion to strike complainant's motion to amend. On October 25, 2001, complainant filed a response to Wayne-Dalton's motion to strike complainant's motion to amend. On October 31, 2001, Wayne-Dalton filed a motion for leave to reply to complainant's response to Wayne-Dalton's motion.

On November 26, 2001, the ALJ granted complainant's motion to amend in the subject ID. On the same day the ALJ denied respondent's motion to strike.

The authority for the Commission's determination is contained in section 337 of the Tariff Act of 1930, as amended (19 U.S.C. 1337), and in § 210.42 of the Commission's rules of practice and procedure (19 CFR 210.42).

Issued: December 13, 2001.
By order of the Commission.
Donna R. Koehnke,
Secretary.

[FR Doc. 01-31254 Filed 12-18-01; 8:45 am]

BILLING CODE 7020-02-P